DEPARTMENT OF ENERGY

Federal Energy Regulatory Commission

Combined Notice of Filings #1

Take notice that the Commission received the following electric corporate filings:

Docket Numbers: EC18-38-000.

Applicants: Colton Power L.P., Fountain Valley Power, L.L.C., Harbor Cogeneration Company, LLC, KES Kingsburg, L.P., SWG Arapahoe, LLC, SWG Colorado, LLC, Valencia Power, LLC, Goal Line L.P.

Description: Application for Authorization for Disposition of Jurisdictional Facilities and Request for Expedited Action of Colton Power L.P., et al.

Filed Date: 12/20/17.

Accession Number: 20171220-5240.

Comments Due: 5 p.m. ET 1/10/18.

Docket Numbers: EC18-39-000.

Applicants: Access Industries, Inc., Calpine Corporation.

Description: Application for Authorization under Section 203 of the Federal Power Act and Request for Expedited Consideration, et al. of Calpine Corporation, et al.

Filed Date: 12/21/17.

Accession Number: 20171221-5195.

Comments Due: 5 p.m. ET 1/11/18.

Take notice that the Commission received the following exempt wholesale generator filings:

Docket Numbers: EG18-22-000.

Applicants: Hardin Wind Energy LLC.

Description: Notice of Self-Certification of Exempt Wholesale Generator Status of Hardin Wind Energy LLC.

Filed Date: 12/21/17.

Accession Number: 20171221-5153.

Comments Due: 5 p.m. ET 1/11/18.

Docket Numbers: EG18-23-000.

Applicants: Hardin Wind Energy Holdings LLC.

Description: Notice of Self-Certification of Exempt Wholesale Generator Status of Hardin Wind Energy Holdings LLC.

Filed Date: 12/21/17.

Accession Number: 20171221-5154.

Comments Due: 5 p.m. ET 1/11/18.

Docket Numbers: EG18-24-000.

Applicants: Beech Ridge Energy II Holdings LLC.

Description: Notice of Self-Certification of Exempt Wholesale Generator Status of Beech Ridge Energy II Holdings LLC.

Filed Date: 12/21/17.

Accession Number: 20171221-5155.

Comments Due: 5 p.m. ET 1/11/18.

Take notice that the Commission received the following electric rate filings:

Docket Numbers: ER10-1276-007; ER10-1292-006; ER10-1287-006; ER10-1303-006; ER10-1319-008; ER10-1353-008.

Applicants: Consumers Energy Company, CMS Energy Resource Management Company, Grayling Generation Station Limited Partnership, Genesee Power Station Limited Partnership, CMS Generation Michigan Power, LLC, Dearborn Industrial Generation, L.L.C.

Description: Updated Market Power Analysis for the Central Region of Consumer Energy Company, et al.

Filed Date: 12/19/17.

Accession Number: 20171219-5246.

Comments Due: 5 p.m. ET 2/20/18.

Docket Numbers: ER12-348-006; ER15-1378-002.

Applicants: Mercuria Energy America, Inc., Mercuria Commodities Canada Corporation.

Description: Updated Triennial Market Analysis for the Southeast Region of the Mercuria Sellers.

Filed Date: 12/20/17.

Accession Number: 20171220-5250.

Comments Due: 5 p.m. ET 2/20/18.

Docket Numbers: ER16-323-004.

Applicants: Ohio Valley Electric Corporation.

Description: Updated Market Power Analysis in the MISO Balancing Area Authority of Ohio Valley Electric Corporation.

Filed Date: 12/20/17.

Accession Number: 20171220-5232.

Comments Due: 5 p.m. ET 2/20/18.

Docket Numbers: ER18-487-000.

Applicants: Tampa Electric Company.

Description: § 205(d) Rate Filing: Section 205 Requirements Depreciation Rates—Various Accounts to be effective 12/31/9998.

Filed Date: 12/20/17.

Accession Number: 20171220-5210.

Comments Due: 5 p.m. ET 1/10/18.

Docket Numbers: ER18-488-000.

Applicants: San Diego Gas & Electric Company.

Description: § 205(d) Rate Filing: 2018 SDGE RS Annual Update to Transmission Owner Tariff to be effective 1/1/2018.

Filed Date: 12/20/17.

Accession Number: 20171220-5211.

Comments Due: 5 p.m. ET 1/10/18.

Docket Numbers: ER18-489-000.

Applicants: PJM Interconnection, L.L.C.

Description: Request for Waiver and Shortened Answer Date of PJM Interconnection, L.L.C.

Filed Date: 12/20/17.

Accession Number: 20171220-5242.

Comments Due: 5 p.m. ET 1/3/18.

Docket Numbers: ER18-490-000.

Applicants: Duke Energy Indiana, LLC.

Description: Market-Based Triennial Review Filing: Central Triennial Duke Companies to be effective 2/19/2018.

Filed Date: 12/21/17.

Accession Number: 20171221-5055.

Comments Due: 5 p.m. ET 1/11/18.

Docket Numbers: ER18-491-000.

Applicants: Hardin Wind Energy LLC.

Description: Baseline eTariff Filing: Application for Market-Based Rate Authorization to be effective 2/20/2018.

Filed Date: 12/21/17.

Accession Number: 20171221-5091.

Comments Due: 5 p.m. ET 1/11/18.

Docket Numbers: ER18-491-001.

Applicants: Hardin Wind Energy LLC.

Description: Tariff Amendment: Supplement to Market-Based Rate Application to be effective 2/20/2018.

Filed Date: 12/21/17.

Accession Number: 20171221-5165.

Comments Due: 5 p.m. ET 1/11/18.

Docket Numbers: ER18-492-000.

Applicants: Hardin Wind Energy Holdings LLC.

Description: Baseline eTariff Filing: Application for Market-Based Rate Authorization to be effective 2/20/2018.

Filed Date: 12/21/17.

Accession Number: 20171221-5095.

Comments Due: 5 p.m. ET 1/11/18.

Docket Numbers: ER18-492-001.

Applicants: Hardin Wind Energy Holdings LLC.

Description: Tariff Amendment: Supplement to Market-Based Rate Application to be effective 2/20/2018.

Filed Date: 12/21/17.

Accession Number: 20171221-5166.

Comments Due: 5 p.m. ET 1/11/18.

Docket Numbers: ER18-493-000.

Applicants: Virginia Electric and Power Company, PJM Interconnection, L.L.C.

Description: § 205(d) Rate Filing: VEPCO Submits Revisions to OATT to Add Dominion M-2 to be effective 1/1/2018.

Filed Date: 12/21/17.

Accession Number: 20171221-5099.

Comments Due: 5 p.m. ET 1/11/18.

Docket Numbers: ER18-494-000.

Applicants: Beech Ridge Energy II Holdings LLC.

Description: Baseline eTariff Filing: Application for Market-Based Rate Authorization to be effective 2/20/2018.

Filed Date: 12/21/17.

Accession Number: 20171221-5114.

Comments Due: 5 p.m. ET 1/11/18.

Docket Numbers: ER18-494-001.

Applicants: Beech Ridge Energy II Holdings LLC.

Description: Tariff Amendment: Supplement to Market-Based Rate Application to be effective 2/20/2018.

Filed Date: 12/21/17.

Accession Number: 20171221-5167.

Comments Due: 5 p.m. ET 1/11/18.

Docket Numbers: ER18-495-000.

Applicants: Southwestern Public Service Company.

Description: § 205(d) Rate Filing: SPS Notice of Succession RS-136 TCEC to GSEC to be effective 1/1/2018.

Filed Date: 12/21/17.

Accession Number: 20171221-5140.

Comments Due: 5 p.m. ET 1/11/18.

Docket Numbers: ER18-496-000.

Applicants: PJM Interconnection, L.L.C.

Description: § 205(d) Rate Filing: Original Service Agreement No. 4856, Queue No. AA2-121/AB2-104 to be effective 11/21/2017.

Filed Date: 12/21/17.

Accession Number: 20171221-5158.

Comments Due: 5 p.m. ET 1/11/18.

Docket Numbers: ER18-498-000.

Applicants: PJM Interconnection, L.L.C.

Description: § 205(d) Rate Filing: Original Service Agreement No. 4872, Queue No. AA2-132 to be effective 11/21/2017.

Filed Date: 12/21/17.

Accession Number: 20171221-5237.

Comments Due: 5 p.m. ET 1/11/18.

Docket Numbers: ER18-499-000.

Applicants: Southwestern Electric Power Company.

Description: § 205(d) Rate Filing: SWEPCO-HOPE PSA RS#125 A&R Windcatcher to be effective 1/1/2018.

Filed Date: 12/21/17.

Accession Number: 20171221-5243.

Comments Due: 5 p.m. ET 1/11/18.

Docket Numbers: ER18-500-000.

Applicants: Southwestern Electric Power Company.

Description: § 205(d) Rate Filing: SWEPCO-Bentonville PSA RS#126 A&R Windcatcher to be effective 1/1/2018.

Filed Date: 12/21/17.

Accession Number: 20171221-5250.

Comments Due: 5 p.m. ET 1/11/18.

Take notice that the Commission received the following public utility holding company filings:

Docket Numbers: PH18-1-000.

Applicants: Énergir Inc.

Description: Energir Inc. submits FERC 65-B Waiver Notification.

Filed Date: 12/21/17.

Accession Number: 20171221-5198.

Comments Due: 5 p.m. ET 1/11/18.

Docket Numbers: PH18-2-000.

Applicants: Valener Inc.

Description: Valener Inc. submits FERC 65-B Waiver Notification.

Filed Date: 12/21/17.

Accession Number: 20171221-5199.

Comments Due: 5 p.m. ET 1/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2017.
Nathaniel J. Davis, Sr.,
Deputy Secretary.

[FR Doc. 2017-28084 Filed 12-27-17; 8:45 am]

BILLING CODE 6717-01-P